DEPARTMENT OF COMMERCE

International Trade Administration

[A-821-802]

Uranium From the Russian Federation: Continuation of Suspension of Antidumping Investigation

AGENCY: Enforcement and Compliance, International Trade Administration, Department of Commerce.

SUMMARY: As a result of determinations by the Department of Commerce (Department) that termination of the Agreement Suspending the Antidumping Investigation on Uranium from the Russian Federation, as amended (the Agreement), and the suspended investigation on uranium from the Russian Federation (Russia) would likely lead to a continuation or recurrence of dumping, and by the International Trade Commission (ITC) that termination of the suspended investigation would likely lead to material injury to an industry in the United States, the Department is publishing this notice of continuation of the Agreement on uranium from Russia.

DATES: Applicable October 2, 2017.

FOR FURTHER INFORMATION CONTACT: Sally C. Gannon or Jill Buckles, Enforcement and Compliance, International Trade Administration, U.S. Department of Commerce, 1401 Constitution Avenue NW., Washington, DC 20230; telephone (202) 482-0162 or (202) 482-6230, respectively.

SUPPLEMENTARY INFORMATION:

Background

On February 3, 2017, the Department published the notice of initiation of the fourth sunset review of the Agreement, pursuant to section 751(c) of the Tariff Act of 1930, as amended (the Act).¹ On the basis of the notice of intent to participate and adequate substantive responses filed by domestic interested parties and the lack of response from any respondent interested party, the Department conducted an expedited sunset review of the Agreement pursuant to section 751(c)(3)(B) of the Act and 19 CFR 351.218(e)(1)(ii)(C). As a result of its review, pursuant to sections 751(c) and 752 of the Act, the Department determined that termination of the Agreement and the suspended investigation on uranium from the Russian Federation would likely lead to a continuation or recurrence of dumping and, therefore, notified the ITC of the magnitude of the margin likely to prevail should the Agreement be terminated.²

¹ See Initiation of Five-year (Sunset) Reviews, 76 FR 38613 (July 1, 2011).

² See Uranium From the Russian Federation; Final Results of the Expedited Fourth Sunset Review of the Suspension Agreement, 82 FR 26776 (June 9, 2017).

On September 26, 2017, pursuant to section 751(c) of the Act, the ITC published its determination that termination of the suspended investigation on uranium from the Russian Federation would be likely to lead to continuation or recurrence of material injury to an industry in the United States within a reasonably foreseeable time.³

³ See Uranium from Russia; Determination, Investigation No. 731-TA-539-C (Fourth Review), 82 FR 44842 (September 26, 2017); see also ITC Publication, Uranium from Russia (Investigation No. 731-TA-539-C (Fourth Review), USITC Publication 4727, September 2017).

Scope of the Agreement

The product covered by the Suspension Agreement is natural uranium in the form of uranium ores and concentrates; natural uranium metal and natural uranium compounds; alloys, dispersions (including cermets), ceramic products, and mixtures containing natural uranium or natural uranium compounds; uranium enriched in U²³⁵ and its compounds; alloys, dispersions (including cermets), ceramic products, and mixtures containing uranium enriched in U²³⁵ or compounds of uranium enriched in U²³⁵; and any other forms of uranium within the same class or kind.

Uranium ore from Russia that is milled into U3O8 and/or converted into UF6 in another country prior to direct and/or indirect importation into the United States is considered uranium from Russia and is subject to the terms of this Suspension Agreement.

For purposes of this Suspension Agreement, uranium enriched in U²³⁵ or compounds of uranium enriched in U²³⁵ in Russia are covered by this Suspension Agreement, regardless of their subsequent modification or blending. Uranium enriched in U²³⁵ in another country prior to direct and/or indirect importation into the United States is not considered uranium from Russia and is not subject to the terms of this Suspension Agreement.⁴

⁴ The second amendment of two amendments to the Suspension Agreement effective on October 3, 1996, in part included within the scope of the Suspension Agreement on Russian uranium which had been enriched in a third country prior to importation into the United States. According to the amendment, this modification remained in effect until October 3, 1998. See Amendments to the Agreement Suspending the Antidumping Investigation on Uranium from the Russian Federation, 61 FR 56665, 56667 (November 4, 1996).

HEU is within the scope of the underlying investigation, and HEU is covered by this Suspension Agreement. For the purpose of this Suspension Agreement, HEU means uranium enriched to 20 percent or greater in the isotope uranium-235.

Imports of uranium ores and concentrates, natural uranium compounds, and all forms of enriched uranium are currently classifiable under the Harmonized Tariff Schedule of the United States (HTSUS) subheadings: 2612.10.00, 2844.10.20, 2844.20.00, respectively. Imports of natural uranium metal and forms of natural uranium other than compounds are currently classifiable under HTSUS subheadings: 2844.10.10 and 2844.10.50. HTSUS subheadings are provided for convenience and Customs purposes. The written description of the scope of this proceeding is dispositive.

Continuation of Suspension of Investigation

As a result of the determinations by the Department and the ITC that termination of the Agreement and the suspended investigation would be likely to lead to continuation or recurrence, respectively, of dumping and material injury to an industry in the United States, pursuant to section 751(d)(2) of the Act, the Department hereby orders the continuation of the Agreement. The effective date of continuation of the Agreement will be the date of publication in the Federal Register of this notice of continuation. Pursuant to Section XII of the 2008 Amendment to the Agreement, the Department intends to terminate the Agreement, and the underlying antidumping investigation, on December 31, 2020.⁵

⁵ See Amendment to the Agreement Suspending the Antidumping Investigation on Uranium From the Russian Federation, 73 FR 7705 (February 11, 2008).

This five-year (sunset) review and notice are in accordance with section 751(c) of the Act and published pursuant to section 777(i)(1) of the Act.

Dated: September 27, 2017.
Carole Showers,
Executive Director, performing the non-exclusive duties of Deputy Assistant Secretary for Enforcement and Compliance.

[FR Doc. 2017-21211 Filed 9-29-17; 8:45 am]

BILLING CODE 3510-DS-P